DEPARTMENT OF HOMELAND SECURITY

[Docket No. DHS-2012-0059]

Chemical Facility Anti-Terrorism Standards (CFATS)

AGENCY: National Protection and Programs Directorate, DHS.

ACTION: 60-day notice and request for comments; Extension of Information Collection Request: 1670-0014.

SUMMARY: The Department of Homeland Security (DHS), National Protection and Programs Directorate (NPPD), Office of Infrastructure Protection (IP), Infrastructure Security Compliance Division (ISCD) will submit the following Information Collection Request to the Office of Management and Budget (OMB) for review and clearance in accordance with the Paperwork Reduction Act of 1995 (Pub. L. 104-13, 44 U.S.C. Chapter 35).

DATES: Comments are encouraged and will be accepted until February 15, 2013. This process is conducted in accordance with 5 CFR § 1320.8.

ADDRESSES: Written comments and questions about this Information Collection Request should be forwarded to DHS/NPPD/IP/ISCD CFATS Program Manager, 245 Murray Lane SW., Mail Stop 0610, Arlington, VA 20528-0610. Written comments should reach the contact person listed no later than February 15, 2013. Comments must be identified by “DHS-2012-0059”and may be submitted by one of the following methods:

• Federal eRulemaking Portal: http://www.regulations.gov.

Instructions: All submissions received must include the words “Department of Homeland Security” and the docket number for this action. Comments received will be posted without alteration at http://www.regulations.gov, including any personal information provided.

Special Instructions: Comments that include trade secrets, confidential commercial or financial information, Chemical-terrorism Vulnerability Information (CVI), Sensitive Security Information (SSI), or Protected Critical Infrastructure Information (PCII) should not be submitted to the public regulatory docket. Please submit such comments separately from other comments in response to this notice. Comments containing trade secrets, confidential commercial or financial information, CVI, SSI, or PCII should be appropriately marked and submitted by mail to the DHS/NPPD/IP/ISCD CFATS Program Manager, 245 Murray Lane SW., Mail Stop 0610, Arlington, VA 20528-0610. Comments must be identified by docket number DHS-2012-0059.

SUPPLEMENTARY INFORMATION: Section 550 of the Homeland Security Appropriations Act of 2007, Public Law 109-295, provides DHS with the authority to regulate the security of high-risk chemical facilities. On April 9, 2007, the Department issued an Interim Final Rule (IFR), implementing this statutory mandate at 72 FR 17688. Section 550 of the Homeland Security Appropriations Act of 2007 requires a risk-based approach to security.

CFATS is the Department's regulations under Section 550 governing security at high-risk chemical facilities. See 6 CFR Part 27. CFATS represents a national-level effort to minimize terrorism risk to such facilities. Its design and implementation balance maintaining economic vitality with securing facilities and their surrounding communities. In collaboration with the private sector and other stakeholders, the Department designed the regulations to take advantage of protective measures already in place and to allow facilities to employ a wide range of tailored measures to satisfy the regulations' Risk-Based Performance Standards (RBPS). The instruments within this collection will be used to manage the CFATS program.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection, Infrastructure Security Compliance Division.

Title: Chemical Facility Anti-Terrorism Standards.

OMB Number: 1670-0014.

Instrument: Request for Redetermination.

Frequency: On occasion/Other.

Affected Public: Business or other for-profit.

Number of Respondents: 625 respondents (estimate).

Estimated Time per Respondent: 0.25 hours.

Total Burden Hours: 156.25 annual burden hours.

Total Burden Cost (capital/startup): $0.

Total Recordkeeping Burden: $0.

Total Burden Cost (operating/maintaining): $13,437.

Instrument: Request for an Extension.

Frequency: On occasion/Other.

Affected Public: Business or other for-profit.

Number of Respondents: 185 respondents (estimate).

Estimated Time per Respondent: 0.25 hours.

Total Burden Hours: 46.25 annual burden hours.

Total Burden Cost (capital/startup): $0.

Total Recordkeeping Burden: $0.

Total Burden Cost (operating/maintaining): $3,977.

Instrument: Notification of a New Top Screen.

Frequency: On occasion/Other.

Affected Public: Business or other for-profit.

Number of Respondents: 1250 respondents (estimate).

Estimated Time per Respondent: 0.25 hours.

Total Burden Hours: 468.75 annual burden hours.

Total Burden Cost (capital/startup): $0.

Total Recordkeeping Burden: $0.

Total Burden Cost (operating/maintaining): $40,312.

Instrument: Request for a Technical Consultation.

Frequency: On occasion/Other.

Affected Public: Business or other for-profit.

Number of Respondents: 185 respondents (estimate).

Estimated Time per Respondent: 0.25 hours.

Total Burden Hours: 69.37 annual burden hours.

Total Burden Cost (capital/startup): $0.

Total Recordkeeping Burden: $0.

Total Burden Cost (operating/maintaining): $5,966.

Scott Libby,
Acting Chief Information Officer, National Protection and Programs Directorate, Department of Homeland Security.

[FR Doc. 2012-30314 Filed 12-14-12; 8:45 am]

BILLING CODE 9110-9P-P